COMMITTEE FOR PURCHASE FROM PEOPLE WHO ARE BLIND OR SEVERELY DISABLED

Procurement List; Proposed Additions and Deletion

AGENCY: Committee for Purchase From People Who Are Blind or Severely Disabled.

ACTION: Proposed additions to and deletions from the Procurement List.

SUMMARY: The Committee is proposing to add products and services to the Procurement List that will be furnished by nonprofit agencies employing persons who are blind or have other severe disabilities and, deletes a service previously provided by such agency.

DATES: Comments Must Be Received On Or Before: 11/3/2014.

ADDRESSES: Committee for Purchase From People Who Are Blind or Severely Disabled, 1401 S. Clark Street, Suite 10800, Arlington, Virginia, 22202-4149.

FOR FURTHER INFORMATION OR TO SUBMIT COMMENTS CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

The following products and services are proposed for addition to the Procurement List for production by the nonprofit agencies listed:

Products

Sweatshirt, Physical Fitness, USMC, Unisex, Long Sleeve

NSN: 8415-00-SAM-3800—Black, Size X-Large

NSN: 8415-00-SAM-3801—Black, Size Small

NSN: 8415-00-SAM-3802—Black, Size Medium

NSN: 8415-00-SAM-3803—Black, Size Large

NSN: 8415-00-SAM-3804—Black, Size X-Large

NSN: 8415-00-SAM-3805—Maroon, Size Small

NSN: 8415-00-SAM-3806—Maroon, Size Medium

NSN: 8415-00-SAM-3807—Blue, Size Medium

NSN: 8415-00-SAM-3808—Yellow, Size Medium

NSN: 8415-00-SAM-3809—Yellow, Size Small

NSN: 8415-00-SAM-3810—Yellow, Size Large

NSN: 8415-00-SAM-3811—Green, Size Medium

NSN: 8415-00-SAM-3812—Red, Size Small

NSN: 8415-00-SAM-3813—Red, Size Medium

NSN: 8415-00-SAM-3814—Red, Size Large

NSN: 8415-00-SAM-3815—Blue, Size Small

T-Shirt, Mesh, Physical Fitness, USMC, Unisex, Short Sleeve

NSN: 8415-00-SAM-3771 —, Gold, Size Small

NSN: 8415-00-SAM-3772—Gold, Size Medium

NSN: 8415-00-SAM-3773—Gold, Size Large

NSN: 8415-00-SAM-3774—Gold, Size X-Large

NSN: 8415-00-SAM-3775—Blue, Size Small

NSN: 8415-00-SAM-3776—Blue, Size Medium

NSN: 8415-00-SAM-3777—Blue, Size Large

NSN: 8415-00-SAM-3778—Blue, Size X-Large

NSN: 8415-00-SAM-3779—Maroon, Size X-Small

NSN: 8415-00-SAM-3780—Maroon, Size Small

NSN: 8415-00-SAM-3781—Maroon, Size Medium

NSN: 8415-00-SAM-3782—Red, Size Small

NSN: 8415-00-SAM-3783—Red, Size Medium

NSN: 8415-00-SAM-3784—Red, Size Large

NSN: 8415-00-SAM-3785—Red, Size X-Large

NSN: 8415-00-SAM-3786—Gray, Size Small

NSN: 8415-00-SAM-3787—Gray, Size Medium

NSN: 8415-00-SAM-3788—Gray, Size Large

NSN: 8415-00-SAM-3789—Green, Size X-Small

NSN: 8415-00-SAM-3790—Green, Size Small

NSN: 8415-00-SAM-3791—Green, Size Medium

NSN: 8415-00-SAM-3792—Green, Size Large

NSN: 8415-00-SAM-3793—Black W/Weapons Logo, Size Small

NSN: 8415-00-SAM-3794—Black W/Weapons Logo, Size Medium

NSN: 8415-00-SAM-3795—Black W/Weapons Logo, Size Large

NSN: 8415-00-SAM-3796—Gray, Size X-Small

NSN: 8415-00-SAM-3797—Black W/Drill Instructor Logo, Small

NSN: 8415-00-SAM-3798—Black W/Drill Instructor Logo, Medium

NSN: 8415-00-SAM-3799—Black W/Drill Instructor Logo, Large

NPA: Beaufort Vocational Rehabilitation Center, Beaufort, SC

Contracting Activity: Dept of the Navy, Commanding General, MCRD, Parris Island, SC

Coverage: C-List for 100% of the requirement of the U.S. Marine Corps Parris Island Recruiting Depot, as aggregated by the Commanding General, U.S. Marine Corps Parris Island Recruiting Depot, Parris Island, SC.

Work Lamp

NSN: 6230-00-NIB-0060—Extendable, Torch Style, Rubber Grip, LED, Rechargeable

NSN: 6230-00-NIB-0061—Baton Style, Rubber Grip, LED, Rechargeable

NSN: 6230-00-NIB-0062—Aluminum Frame, Superbright, COB LED, Rechargeable

NPA: Industries for the Blind, Inc., West Allis, WI

Contracting Activity: Defense Logistics Agency Troop Support, Philadelphia, PA

Coverage: B-List for the Broad Government Requirement as aggregated by the Defense Logistics Agency Troop Support, Philadelphia, PA.

Services

Service Type/,Locations: Custodial Service, Architect of the Capitol, Dirksen Senate Office Building, 1st and C Streets NE., Washington, DC

Hart Senate Office Building, 2nd and C Streets NE., Washington, DC

Russell Senate Office Building, 1st and Constitution Avenue NE., Washington, DC

NPA: Davis Memorial Goodwill Industries, Washington, DC

Contracting Activity: Architect of the Capitol, U.S. Capitol Building, Washington, DC

Service Type/,Location: Grounds Maintenance and Snow Removal Service, US Army, US Army Research Laboratory, 4402 Susquehanna Avenue, Aberdeen Proving Ground, MD

NPA: Melwood Horticultural Training Center, Upper Marlboro, MD

Contracting Activity: Dept of the Army, W2SD ENDIST PHILADELPHIA, Philadelphia, PA

Deletion

The following service is proposed for deletion from the Procurement List:

Service

Service Type/Location: Janitorial/,Custodial Service, Department of Agriculture, Kootenai National Forest, Libby Ranger Station, Libby, MT

NPA: Lincoln Training Center and Rehabilitation Workshop, South El Monte, CA

Contracting Activity: Department of Agriculture, Procurement Operations Division, Washington, DC

Barry S. Lineback,
Director, Business Operations.

[FR Doc. 2014-23605 Filed 10-2-14; 8:45 am]

BILLING CODE 6353-01-P